DEPARTMENT OF DEFENSE

Department of the Air Force

Amended Notice of Intent To Prepare an Environmental Impact Statement for Regional Special Use Airspace Optimization To Support Air Force Missions in Arizona

AGENCY: United States Air Force, Department of Defense.

ACTION: Amended Notice of Intent.

SUMMARY: On January 18, 2022, the Department of the Air Force (DAF) issued a Notice of Intent to prepare an Environmental Impact Statement (EIS) for Regional Special Use Airspace Optimization to Support Air Force Missions in Arizona (Vol. 87, No. 11 Federal Register, 2597, January 18, 2022). The Notice of Intent announced a 45-day formal scoping period through March 4, 2022, included the dates and locations of in-person scoping meetings, and solicited public comments on the DAF's proposed action. In response to public and stakeholder input received during the initial scoping period, the DAF has decided to extend the formal scoping comment period for this EIS. This Amended Notice of Intent extends the formal scoping comment period through June 3, 2022 to allow additional time for the interested public to review the proposed action and submit scoping comments. No changes have been made to the proposed action. All handouts and displays are available on the project website (www.ArizonaRegionalAirspaceEIS.com). Comments submitted during the initial public scoping period from January 18-March 4, 2022 are currently being reviewed and do not need to be resubmitted. Further comments can be provided through the project website and via mail to the address listed below.

DATES: The extended public scoping comment period begins upon publication of this Notice. Further scoping comments are requested by June 3, 2022 to ensure full consideration in the Draft EIS in accordance with 40 CFR 1501.9.

ADDRESSES: Please mail public scoping comments to: Arizona Regional Airspace EIS, c/o Cardno, 501 Butler Farm Rd., Suite H, Hampton, VA 23666. Comments may also be submitted through the project website www.ArizonaRegionalAirspaceEIS.com.

FOR FURTHER INFORMATION CONTACT: Ms. Grace Keesling, Arizona Regional Airspace EIS, c/o Cardno, 501 Butler Farm Rd., Suite H, Hampton, VA 23666; Telephone: (210) 925-4534 at grace; or Email: keesling.1@us.af.mil.

Adriane Paris,
Air Force Federal Register Liaison Officer.

[FR Doc. 2022-09579 Filed 5-3-22; 8:45 am]

BILLING CODE 5001-10-P